NUCLEAR REGULATORY COMMISSION

[Docket Nos. 50-263, 50-260, and 50-296; NRC-2024-0030]

Notice of Intent To Conduct Scoping Process and Prepare Environmental Impact Statement; Tennessee Valley Authority; Browns Ferry Nuclear Plant, Units 1, 2, and 3

AGENCY: Nuclear Regulatory Commission.

ACTION: Notice; public scoping meeting and request for comment.

SUMMARY: The U.S. Nuclear Regulatory Commission (NRC) will conduct a scoping process to gather information necessary to prepare an environmental impact statement (EIS) to evaluate the environmental impacts for an application for the subsequent license renewal (SLR) of the Renewed Facility Operating License Nos. DPR-33, DPR-52, and DPR-68 for Browns Ferry Nuclear Plant, Units 1, 2, and 3 (Browns Ferry). The NRC is seeking public comment on this action and has scheduled two virtual public scoping meetings.

DATES: The NRC will hold two virtual public scoping meetings on April 11, 2024, at 1 p.m. eastern time (ET) and on April 18, 2024, at 6 p.m. ET. Details on both meetings can be found on the NRC's Public Meeting Schedule at https://www.nrc.gov/pmns/mtg. Submit comments on the scope of the EIS by May 3, 2024. Comments received after this date will be considered if it is practical to do so, but the NRC is able to ensure consideration only for comments received on or before this date. See Section IV, “Public Scoping Meeting,” of this notice for additional information.

ADDRESSES: You may submit comments by any of the following methods; however, the NRC encourages electronic comment submission through the Federal rulemaking website:

• Federal rulemaking website: Go to https://regulations.gov and search for Docket ID NRC-2024-0030. Address questions about Docket IDs in Regulations.gov to Stacy Schumann; telephone: 301-415-0624; email: Stacy.Schumann@nrc.gov. For technical questions, contact the individual listed in the FOR FURTHER INFORMATION CONTACT section of this document.

• Email comments to: BrownsFerryEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jessica Umaña, Office of Nuclear Material Safety and Safeguards, U.S. Nuclear Regulatory Commission, Washington, DC 20555-0001; telephone: 301-415-5207, email: Jessica.Umana@nrc.gov.

SUPPLEMENTARY INFORMATION:

I. Obtaining Information and Submitting Comments

A. Obtaining Information

Please refer to Docket ID NRC-2024-0030 when contacting the NRC about the availability of information for this action. You may obtain publicly available information related to this action by any of the following methods:

• Federal Rulemaking Website: Go to https://regulations.gov and search for Docket ID NRC-2024-0030.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the SLR application for Browns Ferry, including the environmental report (ER), is available for public review at the following public library location: Athens-Limestone County Public Library, 603 S Jefferson Street, Athens, AL 35611.

B. Submitting Comments

The NRC encourages electronic comment submission through the Federal rulemaking website (https://www.regulations.gov). Please include Docket ID NRC-2024-0030 in the subject line of your comment submission to ensure that the NRC is able to make your comment submission available to the public in this docket.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated January 19, 2024 (ADAMS Package Accession No. ML24019A009), Tennessee Valley Authority, submitted to the NRC an application for subsequent license renewal of Renewed Facility Operating License No. DPR-33, DPR-52, and DPR-68, for Units 1, 2, and 3, for an additional 20 years of operation. This submission initiated the NRC's proposed action of determining whether to grant the SLR application. Browns Ferry Units 1, 2, and 3 are boiling water reactors designed by General Electric and are located on the north shore of Wheeler Reservoir in Limestone County Alabama at the Tennessee River Mile 294. The current renewed facility operating license for Units 1, 2, and 3, expire at midnight on December 20, 2033, June 28, 2034, and July 2, 2036, respectively. The SLR application was submitted pursuant to part 54 of title 10 of the Code of Federal Regulations (10 CFR), “Requirements for Renewal of Operating Licenses for Nuclear Power Plants,” and seeks to extend the renewed facility operating licenses for Units 1, 2, and 3, to midnight on December 20, 2053, June 28, 2054, and July 2, 2056, respectively. A notice of receipt and availability of the application was published in the Federal Register on February 8, 2024 (89 FR 8725). A notice of acceptance for docketing of the application and of opportunity to request a hearing was published in the Federal Register on March 21, 2024 (89 FR 20254) and is available on the Federal rulemaking website (https://www.regulations.gov) by searching for Docket ID NRC-2024-0030.

III. Request for Comment

This notice informs the public of the NRC's intention to conduct environmental scoping and prepare an EIS related to the SLR application for Browns Ferry, and to provide the public an opportunity to participate in the environmental scoping process, as defined in 10 CFR 51.29, “Scoping-environmental impact statement and supplement to environmental impact statement,” and 10 CFR 51.116, “Notice of intent.”

The regulations in 36 CFR 800.8, “Coordination with the National Environmental Policy Act,” allow agencies to use their National Environmental Policy Act of 1969 (42 U.S.C. 4321, et seq.) (NEPA) process to fulfill the requirements of Section 106 of the National Historic Preservation Act of 1966 (54 U.S.C. 300101, et seq.) (NHPA).

Therefore, pursuant to 36 CFR 800.8(c), the NRC intends to use its process and documentation required for the preparation of the EIS on the proposed action to comply with Section 106 of the NHPA in lieu of the procedures set forth at 36 CFR 800.3 through 800.6.

In accordance with 10 CFR 51.53(c) and 10 CFR 54.23, Tennessee Valley Authority submitted an ER as part of the SLR application. The ER was prepared pursuant to 10 CFR part 51, “Environmental Protection Regulations for Domestic Licensing and Related Regulatory Functions,” and is available in ADAMS under Accession No. ML24023A476. The ER will also be available for viewing at https://www.nrc.gov/reactors/operating/licensing/renewal/applications/browns-ferry-subsequent.html.

In addition, the SLR application, including the ER, is available for public review at the Athens-Limestone County Public Library, 603 S Jefferson Street, Athens, AL 35611.

The NRC intends to gather the information necessary to prepare a site-specific EIS related to the SLR application for Browns Ferry. The site-specific EIS will evaluate the environmental impacts of subsequent license renewal for Browns Ferry and reasonable alternatives thereto. Possible alternatives to the proposed action include the no action alternative and reasonable alternative energy sources. This notice is being published in accordance with NEPA and the NRC's regulations at 10 CFR part 51.

As part of its environmental review, the NRC will first conduct a scoping process for the site-specific EIS and, as soon as practicable thereafter, will prepare a draft site-specific EIS for public comment. Participation in this scoping process by members of the public and local, State, Tribal, and Federal government agencies is encouraged. The scoping process for the site-specific EIS will be used to accomplish the following:

a. Define the proposed action that is to be the subject of the site-specific EIS;

b. Determine the scope of the site-specific EIS and identify the significant issues to be analyzed in depth;

c. Identify and eliminate from detailed study those issues that are peripheral or are not significant or that have been covered by prior environmental review;

d. Identify any environmental assessments and other ElSs that are being or will be prepared that are related to, but are not part of, the scope of the site-specific EIS under consideration;

e. Identify other environmental review and consultation requirements related to the proposed action;

f. Indicate the relationship between the timing of the preparation of the environmental analyses and the NRC's tentative planning and decision-making schedule;

g. Identify any cooperating agencies and, as appropriate, allocate assignments for preparation and schedules for completing the site-specific EIS to the NRC and any cooperating agencies; and

h. Describe how the site-specific EIS will be prepared, including any contractor assistance to be used.

The NRC invites the following entities to participate in scoping:

a. The applicant, Tennessee Valley Authority;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

IV. Public Scoping Meeting

In accordance with 10 CFR 51.26(b), the scoping process for an EIS may include a public scoping meeting to help identify significant issues related to the proposed action and to determine the scope of issues to be addressed in the EIS.

The NRC is announcing that it will hold two virtual public scoping meetings for the Browns Ferry SLR site-specific EIS. A court reporter will transcribe all comments received during the public scoping meeting. To be considered, comments must be provided either at a transcribed public meeting or in writing, as discussed in the ADDRESSES section of this notice. The NRC will hold two virtual public scoping meetings on April 11, 2024, at 1 p.m. ET and on April 18, 2024, at 6 p.m. ET.

Persons interested in attending this meeting should monitor the NRC's Public Meeting Schedule website at https://www.nrc.gov/pmns/mtg for additional information and the agenda for the meeting. Please contact Ms. Jessica Umana no later than April 6, 2024, for the meeting on April 11, 2024, and April 13, 2024, for the meeting on April 18, 2024, if accommodations or special equipment is needed to attend or to provide comments, so that the NRC staff can determine whether the request can be accommodated.

The public scoping meeting will include: (1) an overview by the NRC staff of the environmental and safety review processes, the proposed scope of the site-specific EIS, and the proposed review schedule; and (2) the opportunity for interested government agencies, organizations, and individuals to submit comments or suggestions on environmental issues or the proposed scope of the Browns Ferry SLR site-specific EIS.

Participation in the scoping process for the Browns Ferry SLR site-specific EIS does not entitle participants to become parties to the proceeding to which the site-specific EIS relates. Matters related to participation in any hearing are outside the scope of matters to be discussed at this public meeting.

Dated: March 28, 2024.
For the Nuclear Regulatory Commission.
Ashley N. Waldron,
Acting Chief, Environmental Project Management Branch 1, Division of Rulemaking, Environment, and Financial Support, Office of Nuclear Material Safety, and Safeguards.

[FR Doc. 2024-06990 Filed 4-2-24; 8:45 am]

BILLING CODE 7590-01-P